ENVIRONMENTAL PROTECTION AGENCY

[FRL-9641-4]

Notification of a Public Meeting of the Chartered Science Advisory Board

AGENCY: Environmental Protection Agency (EPA).

ACTION: Notice.

SUMMARY: The Environmental Protection Agency (EPA) Science Advisory Board (SAB) Staff Office announces a public meeting of the Chartered SAB to conduct quality reviews of a draft report on the President's requested FY 2013 budget for EPA research and a draft report on science integration at EPA; to plan for a joint meeting of the SAB and Office of Research and Development's (ORD's) Board of Scientific Counselors (BOSC); to receive a briefing on ORD and sustainability science; and to discuss the scientific and technical bases for four proposed agency actions.

DATES: The public meeting will be held on Thursday, March 22, 2012 from 10 a.m. to 6 p.m. and Friday, March 23, 2012 from 8 a.m. to 1 p.m. (Eastern Daylight Time).

ADDRESSES: The meeting will be held at The Washington Plaza Hotel, 10 Thomas Circle NW., Washington, DC.

FOR FURTHER INFORMATION CONTACT: Any member of the public who wants further information concerning the meeting may contact Dr. Angela Nugent, Designated Federal Officer (DFO), EPA Science Advisory Board (1400R), U.S. Environmental Protection Agency, 1200 Pennsylvania Avenue NW., Washington, DC 20460; via telephone/voice mail (202) 564-2218, fax (202) 202-564-2218; or email at nugent.angela@epa.gov. General information concerning the SAB can be found on the EPA Web site at http://www.epa.gov/sab.

SUPPLEMENTARY INFORMATION: Background: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below.

Draft Report on the President's Requested FY 2013 Research Budget for EPA

The chartered SAB will conduct a quality review of an SAB draft report on the President's requested FY 2013 EPA research budget. Information about this advisory activity can be found on the Web at: http://yosemite.epa.gov/sab/sabproduct.nsf/fedrgstr_activites/Science%20Integration?OpenDocument.

Draft SAB Report on Science Integration at EPA

The chartered SAB will conduct a quality review of a draft report providing recommendations to strengthen science integration for EPA's environmental decisions. Information about this advisory activity can be found on the Web at: http://yosemite.epa.gov/sab/sabproduct.nsf/fedrgstr_activites/Science%20Integration?OpenDocument.

ORD Research: Future Strategic Directions and Current Sustainability Research

The SAB and ORD's BOSC provided a joint report to the Administrator in October 2012 entitled Office of Research and Development (ORD) New Strategic Research Directions: A Joint Report of the Science Advisory Board (SAB) and ORD Board of Scientific Councilors (BOSC) EPA-SAB-12-001. The SAB will discuss plans for a follow up joint meeting with the BOSC to provide additional advice on ORD strategic research directions. The SAB will also receive a briefing on recent ORD activities responding to the National Academy of Science report Sustainability and the U.S. EPA.

Discussion of the Scientific and Technical Bases for Four Proposed Agency Actions

EPA has recently underscored the need to routinely inform the SAB about proposed Agency actions that have a scientific or technical basis. Recently, EPA's Office of Air and Radiation has informed the SAB about several proposed regulations [Commercial and Industrial Solid Waste Incineration (CISWI) Units: Reconsideration and Proposed Amendments; Non-Hazardous Secondary Materials That Are Solid Waste (76 FR 80452-80530); National Emission Standards for HAPs for Area Sources: Industrial, Commercial, and Institutional Boilers (76 FR 80532-805520; National Emission Standards for Hazardous Air Pollutants for Major Sources: Industrial, Commercial, and Institutional Boilers and Process Heaters (76 FR 80598-80672); and EPA and DOT's Proposed Light-duty GHG and CAFE Vehicle Standard (76 FR 74854-75420)]. The SAB will discuss the proposed regulations to determine whether there are any scientific or technical issues that may merit future SAB attention.

Availability of Meeting Materials: A meeting agenda and other materials for the meeting will be placed on the SAB Web site at http://epa.gov/sab.

Procedures for Providing Public Input: Federal advisory committees and panels, including scientific advisory committees, provide independent advice to EPA. Members of the public can submit relevant comments pertaining to EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the March 22-23, 2012 meeting should contact Dr. Angela Nugent, DFO, in writing (preferably via email) at the contact information noted above.

Written Statements: Written statements for the March 22-23, 2012 meeting should be received in the SAB Staff Office by no later than March 16, 2012, so that the information may be made available to the SAB for its consideration prior to this meeting. Written statements should be supplied to the DFO in the following formats: One hard copy with original signature and one electronic copy via email (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Dr. Nugent at the phone number or email address noted above, preferably at least ten days prior to the meeting, to give EPA as much time as possible to process your request.

Dated: February 24, 2012.
Thomas H. Brennan,
Deputy Director, EPA Science Advisory Board Staff Office.

[FR Doc. 2012-5014 Filed 2-29-12; 8:45 am]

BILLING CODE 6560-50-P